DEPARTMENT OF AGRICULTURE

Animal and Plant Health Inspection Service

[Docket No. APHIS-2013-0060]

Notice of Request for Extension of Approval of an Information Collection; Brucellosis in Sheep, Goats, and Horses; Payment of Indemnity

AGENCY: Animal and Plant Health Inspection Service, USDA.

ACTION: Extension of approval of an information collection; comment request.

SUMMARY: In accordance with the Paperwork Reduction Act of 1995, this notice announces the Animal and Plant Health Inspection Service's intention to request an extension of approval of an information collection associated with the regulations for the payment of indemnity for sheep, goats, and horses destroyed because of brucellosis.

DATES: We will consider all comments that we receive on or before November 4, 2013.

ADDRESSES: You may submit comments by either of the following methods:

• Federal eRulemaking Portal: Go to http://www.regulations.gov/#!documentDetail;D=APHIS-2013-0060-0001.

• Postal Mail/Commercial Delivery: Send your comment to Docket No. APHIS-2013-0060, Regulatory Analysis and Development, PPD, APHIS, Station 3A-03.8, 4700 River Road Unit 118, Riverdale, MD 20737-1238.

Supporting documents and any comments we receive on this docket may be viewed at http://www.regulations.gov/#!docketDetail;D=APHIS-2013-0060 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the regulations for the payment of indemnity for sheep, goats, and horses destroyed because of brucellosis, contact Dr. Debra Donch, Brucellosis Program Manager, National Animal Health Policy and Programs, VS, APHIS, 4700 River Road Unit 43, Riverdale, MD 20737; (301) 851-3559. For copies of more detailed information on the information collection, contact Mrs. Celeste Sickles, APHIS' Information Collection Coordinator, at (301) 851-2908.

SUPPLEMENTARY INFORMATION: Title: Brucellosis in Sheep, Goats, and Horses; Payment of Indemnity.

OMB Number: 0579-0185.

Type of Request: Extension of approval of an information collection.

Abstract: Under the Animal Health Protection Act (7 U.S.C. 8301 et seq.), the Animal and Plant Health Inspection Service (APHIS) of the U.S. Department of Agriculture (USDA) is authorized, among other things, to prohibit or restrict the importation and interstate movement of animals and animal products to prevent the introduction into and dissemination within the United States of animal diseases and pests and for eradicating such diseases when feasible.

Brucellosis is a contagious disease caused by bacteria of the genus Brucella that primarily affects cattle, bison, and swine. It causes the loss of young animals through spontaneous abortion or birth of weak offspring, reduced milk production, and infertility. The continued presence of brucellosis seriously threatens the health of other animals. Sheep, goats, and horses are also susceptible to B. abortus. In horses, the disease is known as fistulous withers. A third strain of Brucella, B. melitensis, affects mainly goats and sheep.

The regulations in 9 CFR part 51 include an indemnity program for sheep, goats, and horses that may be destroyed because of brucellosis. This indemnity program, which is similar to our indemnity program for cattle and bison, is voluntary and is a crucial tool for encouraging owners of infected or exposed animals to destroy them as part of our ongoing program to eradicate brucellosis in the United States.

The indemnity program for the voluntary depopulation of sheep, goats, and horses infected with brucellosis involves the use of a number of information collection activities, including the completion of indemnity claims, recording of test results, obtaining a permit for the movement of restricted animals, submission of proof of destruction, requests for extension of certain program-related deadlines, and the use of official seals and animal identification associated with the information collection activities.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.7272 hours per response.

Respondents: Eligible owners of sheep, goats, horses, and materials destroyed, and claimants incurring costs for which compensation might be sought under the brucellosis indemnity program; and program support personnel including accredited veterinarians and State veterinarians.

Estimated annual number of respondents: 3.

Estimated annual number of responses per respondent: 3.67.

Estimated annual number of responses: 11.

Estimated total annual burden on respondents: 8 hours. (Due to averaging, the total annual burden hours may not equal the product of the annual number of responses multiplied by the reporting burden per response.)

All responses to this notice will be summarized and included in the request for OMB approval. All comments will also become a matter of public record.

Done in Washington, DC, this 29th day of August 2013.
Michael C. Gregoire,
Acting Administrator, Animal and Plant Health Inspection Service.

[FR Doc. 2013-21586 Filed 9-4-13; 8:45 am]

BILLING CODE 3410-34-P